DEPARTMENT OF HOUSING AND URBAN DEVELOPMENT

Office of the Secretary

[Docket No. FR-4572-D-17]

Delegation of Concurrent Authority to the Deputy Secretary

AGENCY: Office of the Secretary, HUD.

ACTION: Notice of delegation of concurrent authority.

SUMMARY: The Secretary of Housing and Urban Development is delegating to the Deputy Secretary of Housing and Urban Development, concurrently with the Secretary, the power and authority vested in or delegated or assigned to the Secretary of Housing and Urban Development, with the exception of the power to sue and be sued.

EFFECTIVE DATE: April 4, 2001.

FOR FURTHER INFORMATION CONTACT: Sam E. Hutchinson, Associate General Counsel for Human Resources Law, Office of General Counsel, Department of Housing and Urban Development, Room 10164, 451 7th Street, SW., Washington, DC 20410, telephone (202) 708-0888. This is not a toll-free number. This number may be accessed via TTY by calling the Federal Information Relay Service at 1-800-877-8339.

SUPPLEMENTARY INFORMATION: Under section 7(d) of the Department of Housing and Urban Development Act, 42 U.S.C. 3535(d), the Secretary of Housing and Urban Development may delegate any of the Secretary's functions, powers and duties to such officers and employees of the Department as the Secretary may designate, and may authorize successive redelegations of such functions, powers and duties as determined to be necessary or appropriate. In the delegation of authority issued today, the Secretary is delegating to the Deputy Secretary of Housing and Urban Development all the power and authority vested in or delegated or assigned to the Secretary of Housing and Urban Development, to be exercised concurrently with the Secretary, with the exception of the power to sue and be sued.

Accordingly, the Secretary delegates as follows:

Section A. Authority Delegated

The Deputy Secretary of Housing and Urban Development is hereby authorized, concurrently with the Secretary, to exercise all the power and authority vested in or delegated or assigned to the Secretary of Housing and Urban Development.

Section B. Authority Excepted

There is excepted from the authority delegated under Section A., above, the authority to sue and be sued.

Section C. Delegations of Authority Rescinded or Superseded

The Delegation of Authority published in the Federal Register at 61 FR 353 (January 4, 1996) is hereby superseded. This notice also rescinds the delegation of personnel management authority published in the Federal Register at 62 FR 46504 (September 3, 1997).

Authority: Section 7(d), Department of Housing and Urban Development Act (42 U.S.C. 3535(d)).

Dated: April 4, 2001.
Mel Martinez,
Secretary of Housing and Urban Development.

[FR Doc. 01-8854 Filed 4-10-01; 8:45 am]

BILLING CODE 4210-32-M